COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List products and a service to be furnished by nonprofit agencies employing persons who are blind or have other severe disabilities, and deletes from the Procurement List products previously furnished by such agencies.

EFFECTIVE DATE: September 8, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On June 15, 2001, June 7, June 14, and June 21, 2002, the Committee for Purchase From People Who Are Blind or Severely Disabled published notice (66 FR 32598, 67 FR39337, 40909 and 42235) of proposed additions to and deletions from the Procurement List. After consideration of the material presented to it concerning capability of qualified nonprofit agencies to provide the products and service and impact of the additions on the current or most recent contractors, the Committee has determined that the products and service listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

Accordingly, the following products and service are added to the Procurement List:

Products

Product/NSN: Marker, Permanent Ink (Colossal).

7520-01-424-4849 (Black)

7520-01-424-4855 (Red)

7520-01-424-4870 (Green)

7520-01-424-4880 (Blue)

NPA: Dallas Lighthouse for the Blind, Inc., Dallas, Texas.

Contract Activity: Office Supplies & Paper Products Acquisition Center, New York, New York.

Product/NSN: Pillow, Bed, 7210-00-NIB-0021.

NPA: Raleigh Lions Clinic for the Blind, Inc., Raleigh, North Carolina.

Contract Activity: Department of Veterans Affairs Acquisition Center, Hines, Illinois.

Product/NSN: PRC Deck Recoating System, 8010-00-NIB-0012.

NPA: Alphapointe Association for the Blind, Kansas City, Missouri.

Contract Activity: Fleet Industrial Supply Center, Bremerton, Washington.

Service

Service Type/Location: Base Supply Center, Naval Support Activity, Mechanicsburg, Pennsylvania. Naval Support Activity, Philadelphia, Pennsylvania.

NPA: L.C. Industries For The Blind, Inc., Durham, North Carolina.

Contract Activity: Naval Support Activity, Philadelphia, Philadelphia, Pennsylvania.

Deletions

I certify that the following action will not have a significant impact on a substantial number of small entities. The major factors considered for this certification were:

1. The action may not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for deletion from the Procurement List.

After consideration of the relevant matter presented, the committee has determined that the products listed below are no longer suitable for procurement by the Federal Government under 41 U.S.C. 46-48c and 41 CFR 51-2.4.

Accordingly, the following products are hereby deleted from the Procurement List:

Products

Product/NSN: Case, Spectacle.

6540-01-188-6023

6540-01-454-6926

NPA: Dallas Lighthouse for the Blind, Inc., Dallas, Texas.

NPA: The Travis Association for the Blind, Austin, Texas.

Contract Activity: Defense Supply Center Philadelphia, Philadelphia, Pennsylvania.

Product/NSN: Floorboard, Vehicular, 2510-01-063-3892.

NPA: None currently authorized.

Contract Activity: Defense Supply Center—Columbus, Columbus, Ohio.

Sheryl D. Kennerly,
Director, Information Management.

[FR Doc. 02-20213 Filed 8-8-02; 8:45 am]

BILLING CODE 6353-01-P